DEPARTMENT OF ENERGY

Federal Energy Regulatory Commission

[Project No. 13954-000]

Mahoning Hydropower, LLC; Notice of Preliminary Permit Application Accepted for Filing and Soliciting Comments, Motions To Intervene, and Competing Applications

January 31, 2011.

On December 30, 2010, Mahoning Hydropower, LLC filed an application for a preliminary permit, pursuant to section 4(f) of the Federal Power Act (FPA), proposing to study the feasibility of the Berlin Lake Hydroelectric Project (Berlin Lake Project or project) to be located on the Mahoning River, in the town of Berlin Center, in Portage and Mahoning counties, Ohio. The sole purpose of a preliminary permit, if issued, is to grant the permit holder priority to file a license application during the permit term. A preliminary permit does not authorize the permit holder to perform any land-disturbing activities or otherwise enter upon lands or waters owned by others without the owners' express permission. The project would use Federal lands owned and managed by the United States Army Corps of Engineers' Pittsburg District.

The proposed project would consist of the following: (1) A 40-foot-long, 30-foot-wide concrete powerhouse located below the existing Berlin Lake Dam containing one tubular S-Type propeller turbine-generator unit with a capacity of 1.1 megawatts placed inside the existing 5-foot-wide, 7-foot-tall, 80-foot-long sluice intake conduit through the existing eastern pier; (2) a new 12.5-kilovolt, 300-foot-long transmission line connecting the powerhouse to an existing sub-transmission system to the east; and (3) appurtenant facilities. The estimated annual generation of the Berlin Lake Project would be 6,200 megawatt-hours at a head range of 40-70 feet.

Applicant Contact: Mr. Anthony J. Marra III, General Manager, 11365 Normandy Lane, Chagrin Falls, Ohio 44023; phone: (440) 804-6627.

FERC Contact: Sergiu Serban; phone: (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13954-000) in the docket number field to access the document. For assistance, contact FERC Online Support.

Kimberly D. Bose,
Secretary.

[FR Doc. 2011-2483 Filed 2-3-11; 8:45 am]

BILLING CODE 6717-01-P